NUCLEAR REGULATORY COMMISSION

[Docket No. 40-7102-MLA; ASLBP No. 07-852-01-MLA-BD01]

Shieldalloy Metallurgical Corporation; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, an Atomic Safety and Licensing Board is being established to preside over the following proceeding:

Shieldalloy Metallurgical Corporation (License Amendment Request for Decommissioning the Newfield Facility)

This Board is being established pursuant to a November 9, 2006 Notice of License Amendment Request and Opportunity to Request a Hearing (71 FR 66,986 (Nov. 17, 2006)), regarding the request of Shieldalloy Metallurgical Corporation (SMC) to amend its Source Material License No. SMB-743 to authorize the decommissioning of its Newfield Facility in Newfield, New Jersey. SMC submitted its revised Decommissioning Plan (DP) by letter dated June 30, 2006, and the NRC Staff found the DP acceptable to begin a detailed technical review of its adequacy. This proceeding concerns the requests for hearing submitted by the Attorney General for the State of New Jersey, the Gloucester County Board of Chosen Freeholders, the County of Cumberland, the Residents of Newfield, New Jersey (by Terry Ragone), and Loretta Williams.

This Board is comprised of the following administrative judges:

Alan S. Rosenthal, Chair, Atomic Safety and Licensing Board Panel, U.S. Nuclear Regulatory Commission, Washington, DC 20555-0001.

Dr. Richard E. Wardwell, Atomic Safety and Licensing Board Panel, U.S. Nuclear Regulatory Commission, Washington, DC 20555-0001.

Dr. William Reed, Atomic Safety and Licensing Board Panel, U.S. Nuclear Regulatory Commission, Washington, DC 20555-0001.

All correspondence, documents, and other materials shall be filed with the administrative judges in accordance with 10 CFR 2.302.

Issued at Rockville, Maryland, this 23rd day of January 2007.
E. Roy Hawkens,
Chief Administrative Judge, Atomic Safety and Licensing Board Panel.

[FR Doc. E7-1346 Filed 1-26-07; 8:45 am]

BILLING CODE 7590-01-P